DEPARTMENT OF TRANSPORTATION

Federal Aviation Administration

Twenty Fourth Meeting: RTCA Special Committee 216, Aeronautical Systems Security

AGENCY: Federal Aviation Administration (FAA), U.S. Department of Transportation (DOT).

ACTION: Meeting Notice of RTCA Special Committee 216, Aeronautical Systems Security.

SUMMARY: The FAA is issuing this notice to advise the public of the twenty fourth meeting of RTCA Special Committee 216, Aeronautical Systems Security.

DATES: The meeting will be held June 13, 2014 from 9:00 a.m.-12:00 p.m.

ADDRESSES: The meeting will be held at RTCA Headquarters, 1150 18th Street NW., Suite 450, Washington, DC 20036.

FOR FURTHER INFORMATION CONTACT: You may contact the RTCA Secretariat, 1150 18th Street NW., Suite 910, Washington, DC 20036, or by telephone at (202) 833-9339, fax at (202) 833-9434, or Web site http://www.rtca.org for directions.

SUPPLEMENTARY INFORMATION: Pursuant to section 10(a)(2) of the Federal Advisory Committee Act (Pub. L. 92-463, 5 U.S.C., App.), notice is hereby given for a meeting of Special Committee 216.

June 13

• Open Meeting and Introductions

• Approve Summary—Meeting #23, RTCA Paper No. 107-14/SC216-051

• Summarize FAA 5 Year Plan Meeting Discussion

• Status of Revised DO-326A—Airworthiness Security Process Specification and new document—Information Security Guidance for Continuing Airworthiness, and upcoming PMC Review

• Summary of DO-yy3—Security Assurance and Assessment Methods for Safety-related Aircraft Systems Comment Disposition

• Discussion of Consensus to Move DO-yy3—Security Assurance and Assessment Methods for Safety-related Aircraft Systems to Formal Review And Comment (FRAC) Period.

• 12:00pm Close Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 15, 2014.
Mohannad Dawoud,
Management Analyst, NextGen, Business Operations Group, Federal Aviation Administration.

[FR Doc. 2014-11774 Filed 5-20-14; 8:45 am]

BILLING CODE 4910-13-P